DEPARTMENT OF COMMERCE

National Oceanic and Atmospheric Administration

[I.D. 110101B]

Harbor Porpoise Bycatch Estimates for 2000

AGENCY: National Marine Fisheries Service (NMFS), National Oceanic and Atmospheric Administration (NOAA), Commerce.

ACTION: Notice of availability.

SUMMARY: NMFS announces the availability of harbor porpoise bycatch estimates for January through December, 2000.

ADDRESSES: Send information requests to Protected Resources Division, NOAA Fisheries, One Blackburn Drive, Gloucester, MA 01930-2298 or Marine Mammal Conservation Division, NOAA Fisheries, Office of Protected Resources, 1315 East-West Highway, Silver Spring, MD 20910.

FOR FURTHER INFORMATION CONTACT: Kimberly Thounhurst, Northeast Region, (978) 281-9138 or Emily Hanson Menashes, Office of Protected Resources, (301) 713-2322.

SUPPLEMENTARY INFORMATION:

Electronic Access

The 2000 harbor porpoise bycatch estimates are accessible by the Internet at http://www.nero.nmfs.gov/porptrp/.

Background

NMFS published a final rule implementing the Harbor Porpoise Take Reduction Plan (HPTRP) on December 2, 1998 (63 FR 66464) to reduce the incidental take of the Gulf of Maine/Bay of Fundy stock of harbor porpoise in the Northeast sink gillnet fishery and Mid-Atlantic coastal gillnet fishery to below the Potential Biological Removal (PBR) level for the stock. The HPTRP contains management measures including fishery closures and gear modifications. The HPTRP measures are described in the December 1998 final rule and correction notice (63 FR 71041, December 23, 1998).

The most current estimate of incidental take of harbor porpoise for 2000 by fishery is available. This information is provided pursuant to a requirement of the May 12, 2000, Settlement Agreement in Center for Marine Conservation et al. v. Daley et al. (D. DC, Civ. No. 1:98CV02029 EGS). For 2000, the total estimated bycatch of harbor porpoise was 529 animals (CV=0.36). This estimate is comprised of 507 animals (coefficient of variation (CV)=0.37) from the Northeast sink gillnet fishery, 21 animals (CV=0.76) from the Mid-Atlantic coastal gillnet fishery, and 1 animal (CV unknown) from an unknown Mid-Atlantic fishery. Estimates of harbor porpoise bycatch in Canadian waters for 2000 are not currently available. Additional detail about the 2000 harbor porpoise bycatch estimates in U.S. waters is available in the 2000 bycatch analysis provided to the plaintiffs of the settlement agreement and can be obtained by contacting NMFS at one of the locations given in the ADDRESSES section.

For 1999, the total estimated bycatch of harbor porpoise was 323 animals (CV=0.25), comprised of 270 animals (CV=0.28) from the Northeast sink gillnet fishery and 53 animals (CV=0.49) from the Mid-Atlantic coastal gillnet fishery. 1999 and 2000 represent the years since implementation of the Harbor Porpoise Take Reduction Plan and fishery management measures intended to reduce harbor porpoise bycatch. From 1994 through 1998, the mean annual mortality of harbor porpoise was 1,521 animals (CV=0.10), comprised of 1163 animals (CV=0.11) from the Northeast sink gillnet fishery and 358 animals (CV=0.20) from the Mid-Atlantic coastal gillnet fishery.

Dated: December 10, 2001.
David Cottingham,
Deputy Director, Office of Protected Resources, National Marine Fisheries Service.

[FR Doc. 01-30830 Filed 12-12-01; 8:45 am]

BILLING CODE 3510-22-S